DEPARTMENT OF HEALTH AND HUMAN SERVICES

Administration for Community Living

Agency Information Collection Activities; Proposed Collection; Comment Request; the National Maltreatment Reporting System

AGENCY: Administration for Community Living, HHS.

ACTION: Notice.

SUMMARY: The Administration for Community Living (ACL) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to the National Maltreatment Reporting System (NAMRS). The proposed collection of information tools may be found in the NAMRS section of the ACL Web site.

DATES: Submit written or electronic comments on the collection of information by: May 23, 2016.

ADDRESSES: Submit electronic comments on the collection of information to Stephanie Whittier Eliason at stephanie.whittiereliason@acl.hhs.gov.

Submit written comments on the collection of information to: Administration for Community Living, Attention: Stephanie Whittier Eliason, 330 C St SW., Washington, DC 20201.

FOR FURTHER INFORMATION CONTACT: Stephanie Whittier Eliason at 202.795.7467.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing notice of the proposed collection of information set forth in this document.

Authority

This data collection effort is in response to the Elder Justice Act of 2009, which amended title XX of the Social Security Act (42.U.S.C. 13976 et seq.). These provisions require that the Secretary of HHS “collects and disseminates data annually relating to the abuse, exploitation, and neglect of elders in coordination with the Department of Justice” (Sec. 2041(a)(1)(B)), and “conducts research related to the provision of adult protective services” (Sec. 2041(a)(1)(D)). Furthermore, the Elder Justice Coordinating Council (EJCC) included as its third recommendation for increasing federal involvement in addressing elder abuse, neglect, and exploitation: Develop a national adult protective services (APS) system based upon standardized data collection and a core set of service provision standards and best practices.

Background

From 2013-2015, ACL, in partnership with the U.S. Department of Health & Human Services' Office of the Assistant Secretary for Planning and Evaluation (ASPE), developed and pilot tested NAMRS. When implemented, NAMRS will be the first comprehensive, national reporting system for APS programs. NAMRS is intended to collect quantitative and qualitative data on the practices and policies of adult protective services (APS) agencies, as well as the outcomes of investigations into the maltreatment of older adults and adults with disabilities.

In developing NAMRS, ACL and ASPE convened key stakeholders to identify data elements that are the most critical for a national system. More than 40 state administrators, researchers, service providers, and other stakeholders provided input in focus group conference calls. Additionally, more than 30 state representatives from 25 different states met in three in-person working sessions to discuss the uses of collected data and the key functionalities.

A pilot version of NAMRS was tested in nine (9) diverse states, and refined based on feedback from the pilot and additional stakeholder engagement. A full discussion on the background of NAMRS, including the development of the system, the public engagement process, and the pilot testing can be found in the NAMRS section of the ACL Web site.

Proposed Collection Effort

NAMRS has been developed as a voluntary system to collect annually both summary and de-identified case-level data on APS investigations. NAMRS consists of three components:

(1) ACL proposes to collect descriptive data on state agency policies and practices from all states through the “Agency Component,” and

(2) Case-level, non-identifiable data on persons who receive an investigation by APS in response to an allegation of abuse, neglect, or exploitation through the “Case Component.”

(3) For states that are unable to submit a case-level file through the “Case Component,” a “Key Indicators Component” will be available for them to submit data on a smaller set of core items.

ACL will provide technical assistance to states to assist in the preparation of their data submissions. Respondents will be state APS agencies and APS agencies in the District of Columbia, Puerto Rico, Guam, Northern Marianas Islands, Virgin Islands, and American Samoa. No personally identifiable information will be collected. ACL has calculated the following burden estimates (information on how the estimates were calculated is available in the NAMRS section of the ACL Web site):

Instrument | Number of respondents | Number of responses per respondent | Average burden hours per response | Total burden hours
Agency Component | 56 | 1 | 13 | 728
Key Indicators Component | 31 | 1 | 40 | 1,240
Case Component | 25 | 1 | 150 | 3,750
Estimated Total Annual Burden Hours |  |  |  | 5,718

With respect to the collection of information via NAMRS, ACL specifically requests comments on:

(a) Whether the proposed collection of information is necessary for the proper performance of the functions of the agency, including whether the information shall have practical utility;

(b) the accuracy of the agency's estimate of the burden of the proposed collection of information;

(c) the quality, utility, and clarity of the information to be collected; and

(d) ways to minimize the burden of the collection of information on respondents, including through the use of automated collection techniques or other forms of information technology.

Consideration will be given to comments and suggestions submitted within 60 days of this publication. The proposed collection of information tools may be found in the NAMRS section of the ACL Web site.

Dated: March 16, 2016.
Kathy Greenlee,
Administrator and Assistant Secretary for Aging.

[FR Doc. 2016-06342 Filed 3-21-16; 8:45 am]

BILLING CODE 4154-01-P